DEPARTMENT OF COMMERCE

National Oceanic and Atmospheric Administration

[RTID 0648-XE318]

Gulf of Mexico Fishery Management Council; Public Meeting

AGENCY: National Marine Fisheries Service (NMFS), National Oceanic and Atmospheric Administration (NOAA), Commerce.

ACTION: Notice of public meeting.

SUMMARY: The Gulf of Mexico Fishery Management Council (Council) will hold its first Recreational Initiative Working Group meeting in Tampa, FL.

DATES: The meeting will convene Tuesday, October 29, 2023, from 9 a.m. to 5 p.m. and Wednesday, October 30, 2024, from 9 a.m. to 4 p.m., EDT.

ADDRESSES: The meeting will take place at the Gulf Council Office. You may “listen in” by accessing the log-on information by visiting our website at www.gulfcouncil.org.

Council address: Gulf of Mexico Fishery Management Council, 4107 W Spruce Street, Suite 200, Tampa, FL 33607; telephone: (813) 348-1630.

FOR FURTHER INFORMATION CONTACT: Dr. Carrie Simmons, Executive Director, Gulf of Mexico Fishery Management Council; telephone: (813) 348-1630.

SUPPLEMENTARY INFORMATION: The purpose of this meeting is to provide Working Group members with an opportunity to share their views on reef fish stock status and management, provide perspectives on what management “success” would look like, and offer initial thoughts on approaches that they would like to see the Council consider. The meeting agenda is as follows:

Tuesday, October 29, 2024; 9 a.m.-5 p.m., EDT

The meeting will begin with Welcome and Recreational Initiative Background, Introductions, Set the Stage and Review Meeting Purpose, History of Past and Current Goals and Objectives for Recreational Fisheries Management.

The group will review past challenges and successes of recreational reef fish management.

Wednesday, October 30, 2024; 9 a.m.-4 p.m., EDT

The Working Group will work on developing a vision, goals and objectives for Recreational Reef Fish Management. The Group will engage in a facilitated discussion and the meeting with end with closing remarks and logistics.

The full agenda and additional information will be posted on https://gulfcouncil.org/recreational-initiative/.

This meeting is being held in-person at the Gulf Council office, Tampa, FL. You may register for the webinar to listen-in only by visiting www.gulfcouncil.org and click on the meeting on the calendar.

The timing and order in which agenda items are addressed may change as required to effectively address the issue, and the latest version along with other meeting materials will be posted on the website as they become available.

Special Accommodations

These meetings are physically accessible to people with disabilities. Requests for sign language interpretation or other auxiliary aid or accommodations should be directed to Kathy Pereira, (813) 348-1630, at least 15 days prior to the meeting date.

Authority: 16 U.S.C. 1801 et seq.

Dated: October 7, 2024.
Rey Israel Marquez,
Acting Deputy Director, Office of Sustainable Fisheries, National Marine Fisheries Service.

[FR Doc. 2024-23463 Filed 10-9-24; 8:45 am]

BILLING CODE 3510-22-P